FEDERAL COMMUNICATIONS COMMISSION

47 CFR Part 54

[WC Docket No. 10-90; DA 13-1113, FCC 13-73]

Connect America Fund

AGENCY: Federal Communications Commission.

ACTION: Final rule; announcement of effective date.

SUMMARY: In this document, the Federal Communications Commission (Commission) announces that the Office of Management and Budget (OMB) has approved, for a period of six months, an information collection associated with the Commission's Universal Service—Connect America Fund, Report and Order, 78 FR 32991, June 3, 2013 and Report and Order, 78 FR 38227, June 26, 2013 (Orders). The Commission submitted new information collection requirements for review and approval by OMB, as required by the Paperwork Reduction Act (PRA) of 1995 (44 U.S.C. 3501-3520), 78 FR 34097, June 6, 2013, which were approved by the OMB on July 9, 2013. This notice is consistent with the Orders, which stated that the Commission would publish a document in the Federal Register announcing the effective date of new information collection requirements.

DATES: The rules associated with the Connect America Phase II challenge process published at 78 FR 32991, June 3, 2013 and 47 CFR 54.312(c)(4) through (6), 54.312(c)(8), and 54.313(b) published at 78 FR 38227, June 26, 2013, is effective July 25, 2013.

FOR FURTHER INFORMATION CONTACT: Ryan Yates, Wireline Competition Bureau at (202) 418-7400 or TTY (202) 418-0484.

SUPPLEMENTARY INFORMATION: This document announces that, on July 9, 2013, OMB approved, for a period of six months, the information collection requirements contained in the Commission's Orders, DA 13-1113, published at 78 FR 32991, June 3, 2013 and FCC 13-73, published at 78 FR 38227, June 26, 2013. The OMB Control Number is 3060-1188. The Commission publishes this notice as an announcement of the effective date of the rules associated with the Connect America Phase II challenge process and 47 CFR 54.312(c)(4) through (c)(6), 54.312(c)(8) and 54.313(b). If you have any comments on the burden estimates listed below, or how the Commission can improve the collections and reduce any burdens caused thereby, please contact Judith B. Herman, Federal Communications Commission, Room 1-C823, 445 12th Street SW., Washington, DC 20554. Please include the OMB Control Number, 3060-1188, in your correspondence. The Commission will also accept your comments via email please send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on July 9, 2013, for the rules associated with the Connect America Phase II challenge process and the information collection requirements contained in the Commission's rules at 47 CFR 54.312(c)(4) through (c)(6), 54.312(c)(8) and 54.313(b). Under 5 CFR 1320, an agency may not conduct or sponsor a collection of information unless it displays a current, valid OMB Control Number.

No person shall be subject to any penalty for failing to comply with a collection of information subject to the Paperwork Reduction Act that does not display a current, valid OMB Control Number. The OMB Control Number is 3060-1188.

The foregoing notice is required by the Paperwork Reduction Act of 1995, Pub. L. 104-13, October 1, 1995, and 44 U.S.C. 3507.

The total annual reporting burdens and costs for the respondents are as follows:

OMB Control Number: 3060-1188.

OMB Approval Date: July 9, 2013.

OMB Expiration Date: January 31, 2014.

Title: Connect America Challenge Process and Certifications, WC Docket No. 10-90.

Form No.: FCC Form 505.

Respondents: Business or other for-profit, not-for-profit institutions, and state, local or tribal government.

Number of Respondents and Responses: 113 respondents; 113 responses.

Estimated Time per Response: 10 hours to 20 hours.

Frequency of Response: On occasion reporting requirement and third party disclosure requirements.

Obligation To Respond: Required to obtain or retain benefits. Statutory authority for this information collection is contained in 47 U.S.C. sections.

Total Annual Burden: 1,260 hours.

Total Annual Cost: N/A.

Nature and Extent of Confidentiality: The Commission is not requesting that respondents submit confidential information to the Commission. However, respondents may request materials or information submitted to the Commission or to the Administrator be withheld from public inspection under 47 CFR 0.459 of the Commission's rules. We note that USAC must preserve the confidentiality of all data obtained from respondents; must not use the data except for purposes of administering the universal service programs; and must not disclose data in company-specific form unless directed to do so by the Commission.

Needs and Uses: In documents DA 13-1113 and FCC 13-73, the Commission proposed to collect information to determine what areas should be eligible for Phase II of Connect America Fund and to ensure that Connect America Fund Phase I deployment occur in areas that are eligible for support. This information will be used to determine the amount of, and eligibility for, high-cost universal service support received by incumbent and competitive eligible telecommunications carriers under the Connect America Fund. To aid in collecting this information regarding the Phase II challenge process in a uniform fashion, the Commission has created the new FCC Form 505, which parties should use in filing their Phase II challenges and responses with the FCC.

Federal Communications Commission.
Marlene H. Dortch,
Secretary.

[FR Doc. 2013-17850 Filed 7-24-13; 8:45 am]

BILLING CODE 6712-01-P